GENERAL SERVICES ADMINISTRATION

[OMB Control No. 3090-XXXX; Docket No. 2018-0001; Sequence No. 17]

Submission for OMB Review; CDP Supply Chain Climate Change Information Request

AGENCY: Office of Government-Wide Policy (OGP), General Services Administration.

ACTION: Notice of request for comments regarding a new request for an Office of Management and Budget (OMB) clearance.

SUMMARY: The Office of Government-Wide Policy, General Services Administration (GSA) will submit a request to the Office of Management and Budget (OMB) for review and clearance for the CDP Supply Chain Climate Change Information Request. As required by the Paperwork Reduction Act of 1995.

DATES: Submit comments on or before November 14, 2018.

ADDRESSES: Submit comments regarding this burden estimate or any other aspect of this collection of information, including suggestions for reducing this burden to Mr. Jed Ela, Sustainability Advisor, Office of Government-Wide Policy, GSA, at jed.ela@gsa.gov. Additionally submit a copy to GSA by any of the following methods:

• Regulations.gov: http://www.regulations.gov. Submit comments via the Federal eRulemaking portal by searching for “Information Collection 3090-XXXX; CDP Supply Chain Climate Change Information Request.” Select the link “Submit a Comment” that corresponds with “Information Collection 3090-XXXX; CDP Supply Chain Climate Change Information Request.” Follow the instructions provided at the “Submit a Comment” screen. Please include your name, company name (if any), and “Information Collection 3090-XXXX; CDP Supply Chain Climate Change Information Request” on your attached document.

• Mail: General Services Administration, Regulatory Secretariat Division (MVCB), 1800 F Street NW, Washington, DC 20405. ATTN: Ms. Mandell/IC 3090-XXXX; CDP Supply Chain Climate Change Information Request.

Instructions: Please submit comments only and cite Information Collection 3090-XXXX; CDP Supply Chain Climate Change Information Request, in all correspondence related to this collection. Comments received generally will be posted without change to http://www.regulations.gov, including any personal and/or business confidential information provided. To confirm receipt of your comment(s), please check www.regulations.gov, approximately two to three days after submission to verify posting (except allow 30 days for posting of comments submitted by mail).

FOR FURTHER INFORMATION CONTACT: Mr. Jed Ela, Sustainability Advisor, Office of Government-Wide Policy, at jed.ela@gsa.gov.

SUPPLEMENTARY INFORMATION:

A. Purpose

The CDP Supply Chain Climate Change Information Request is an electronic questionnaire designed to collect information pertinent to organizations' exposure to energy market and environmental risks. The questionnaire is administered by CDP North America, Inc., a 501(c)(3) nonprofit organization (“CDP”). CDP administers the questionnaire annually to companies on behalf of over 650 institutional investors and over 100 major purchasing corporations and governmental purchasing organizations. In accordance with 31 U.S. Code 3512(c)(1)(b), GSA will use the information collected via this questionnaire to inform and develop purchasing policies and contract requirements necessary to safeguard Federal assets against waste, loss, and misappropriation resulting from unmitigated exposure to energy market and environmental risks.

B. Annual Burden Hours

Frequency: Annual.

Affected Public: Federal contractors.

Number of Respondents: 250.

Responses per Respondent: 1.

Total Annual Responses: 250.

Estimated Time per Respondent: 4.8 hrs.

Total Burden Hours: 1210.

C. Discussion and Analysis

A notice was published in the Federal Register at 83 FR 32298 on July 12, 2018. One comment was received. The American Fuel and Petrochemical Manufacturers (AFPM) submitted the only comment to that notice.

Comment: AFPM stated that it “supports the use of data obtained from thorough and objective analysis of industry sector risks, opportunities, and overall performance.” AFMP also requested that GSA “abandon its plan to use CDP data in contract decisions” because, in AFPM's view, CDP's proprietary scoring methods are unreliable, and using CDP data for contract selection would contradict the intent of E.O. 13783 and constitute a de facto requirement to disclose information to CDP. AFPM recommended that GSA rely instead upon information from a variety of other sources.

Response: GSA has no plan to use CDP data for purposes of contract selection or eligibility. GSA plans to use voluntarily provided CDP data, alongside other data sources as recommended by AFPM, as general market research to better inform its business needs, including its needs for products and services which minimize waste and business risks, and to learn more about available products and services that meet these needs. GSA is required by 31 U.S. Code 3512(c)(1)(b) to safeguard Federal assets against waste, loss, and misappropriation. GSA is also required by E.O. 13834 (signed May 17, 2018) to meet statutory requirements “in a manner that increases efficiency, optimizes performance, eliminates unnecessary use of resources, and protects the environment” and to “reduce waste, cut costs, [and] enhance the resilience of Federal infrastructure and operations.” E.O. 13834, Efficient Federal Operations, 83 FR 23771. This collection will provide GSA with a variety of information needed to implement these mandates to reduce waste and minimize risks of disruption to critical operations. Given these considerations, GSA does not believe changes to the Information Collection Request (ICR) are appropriate.

Public Comments

Public comments are particularly invited on: Whether this collection of information is necessary, whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

Dated: October 4, 2018.
David A. Shive,
Chief Information Officer.

[FR Doc. 2018-22408 Filed 10-12-18; 8:45 am]

BILLING CODE 6820-61-P